DEPARTMENT OF JUSTICE

Drug Enforcement Administration

Manufacturer of Controlled Substances; Notice of Application

Pursuant to § 1301.33(a) of Title 21 of the Code of Federal Regulations (CFR), this is notice that on March 29, 2002, Siegfried (USA) Inc., made application by renewal to the Drug Enforcement Administration for registration as a bulk manufacturer of the basic classes of controlled substance listed below:

Drug | Schedule
Amphetamine (1100) | II
Methylphenidate (1724) | II
Amobarbital (2125) | II
Pentobarbital (2270) | II
Secobarbital (2315) | II
Glutethimide (2550) | II
Codeine (9050) | II
Hydrocodone (9193) | II
Morphine (9300) | II
Oxycodone (9143) | II
Methadone (9250) | II
Methadone-intermediate (9254) | II
Dextropropoxyphene, bulk (non dosage forms) (9273) | II

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than 60 days from publication.

Dated: March 21, 2003.
Laura M. Nagel,
Deputy Assistant Administrator, Office of Diversion Control, Drug Enforcement Administration.

[FR Doc. 03-8582 Filed 4-8-03; 8:45 am]

BILLING CODE 4410-09-M